DEPARTMENT OF ENERGY

Federal Energy Regulatory Commission

Combined Notice of Filings #1

Take notice that the Commission received the following electric rate filings:

Docket Numbers: ER10-2214-006.

Applicants: Zion Energy LLC.

Description: Report Filing: Refund Report ? Informational Filings to be effective N/A.

Filed Date: 11/12/19.

Accession Number: 20191112-5242.

Comments Due: 5 p.m. ET 12/3/19.

Docket Numbers: ER10-2214-007.

Applicants: Zion Energy LLC.

Description: Compliance filing: Reactive Service Rate Schedule Compliance Filings to be effective1/24/2018.

Filed Date: 11/12/19.

Accession Number: 20191112-5185.

Comments Due: 5 p.m. ET 12/3/19.

Docket Numbers: ER12-954-006.

Applicants: Calpine Mid Merit, LLC.

Description: Report Filing: Refund Report ? Informational Filings to be effective N/A.

Filed Date: 11/12/19.

Accession Number: 20191112-5222.

Comments Due: 5 p.m. ET 12/3/19.

Docket Numbers: ER12-954-007.

Applicants: Calpine Mid Merit, LLC.

Description: Compliance filing: Reactive Service Rate Schedule Compliance Filings to be effective1/24/2018.

Filed Date: 11/12/19.

Accession Number: 20191112-5163.

Comments Due: 5 p.m. ET 12/3/19.

Docket Numbers: ER14-873-004.

Applicants: Calpine New Jersey Generation, LLC.

Description: Report Filing: Refund Report ? Informational Filings to be effective N/A.

Filed Date: 11/12/19.

Accession Number: 20191112-5231.

Comments Due: 5 p.m. ET 12/3/19.

Docket Numbers: ER14-873-006.

Applicants: Calpine New Jersey Generation, LLC.

Description: Compliance filing: Reactive Service Rate Schedule Compliance Filings to be effective1/24/2018.

Filed Date: 11/12/19.

Accession Number: 20191112-5168.

Comments Due: 5 p.m. ET 12/3/19.

Docket Numbers: ER14-874-004.

Applicants: Calpine Bethlehem, LLC.

Description: Report Filing: Refund Report ? Informational Filings to be effective N/A.

Filed Date: 11/12/19.

Accession Number: 20191112-5220.

Comments Due: 5 p.m. ET 12/3/19.

Docket Numbers: ER14-874-005.

Applicants: Calpine Bethlehem, LLC.

Description: Compliance filing: Reactive Service Rate Schedule Compliance Filings to be effective1/24/2018.

Filed Date: 11/12/19.

Accession Number: 20191112-5161.

Comments Due: 5 p.m. ET 12/3/19.

Docket Numbers: ER14-875-004.

Applicants: Calpine Mid-Atlantic Generation, LLC.

Description: Report Filing: Refund Report ? Informational Filings to be effective N/A.

Filed Date: 11/12/19.

Accession Number: 20191112-5228.

Comments Due: 5 p.m. ET 12/3/19.

Docket Numbers: ER14-875-005.

Applicants: Calpine Mid-Atlantic Generation, LLC.

Description: Compliance filing: Reactive Service Rate Schedule Compliance Filings to be effective1/24/2018.

Filed Date: 11/12/19.

Accession Number: 20191112-5166.

Comments Due: 5 p.m. ET 12/3/19.

Docket Numbers: ER15-2495-004.

Applicants: Calpine New Jersey Generation, LLC.

Description: Report Filing: Refund Report ? Informational Filings to be effective N/A.

Filed Date: 11/12/19.

Accession Number: 20191112-5239.

Comments Due: 5 p.m. ET 12/3/19.

Docket Numbers: ER15-2495-005.

Applicants: Calpine New Jersey Generation, LLC.

Description: Compliance filing: Reactive Service Rate Schedule Compliance Filings to be effective1/24/2018.

Filed Date: 11/12/19.

Accession Number: 20191112-5167.

Comments Due: 5 p.m. ET 12/3/19.

Docket Numbers: ER17-556-003; ER10-1362-003; ER12-2639-008; ER17-104-004; ER17-105-004.

Applicants: Grady Wind Energy Center, LLC, Broadview Energy JN, LLC, Broadview Energy KW, LLC, Octotillo Express LLC, Hatchet Ridge Wind, LLC.

Description: Triennial Market Power Update for the Southwest Region of the Pattern Southwest Entities.

Filed Date: 11/8/19.

Accession Number: 20191108-5194.

Comments Due: 5 p.m. ET 1/7/20.

Docket Numbers: ER17-2566-003.

Applicants: Calpine Mid-Atlantic Generation, LLC.

Description: Report Filing: Refund Report ? Informational Filings to be effective N/A.

Filed Date: 11/12/19.

Accession Number: 20191112-5226.

Comments Due: 5 p.m. ET 12/3/19.

Docket Numbers: ER17-2566-004.

Applicants: Calpine Mid-Atlantic Generation, LLC.

Description: Compliance filing: Reactive Service Rate Schedule Compliance Filings to be effective1/24/2018.

Filed Date: 11/12/19.

Accession Number: 20191112-5165.

Comments Due: 5 p.m. ET 12/3/19.

Docket Numbers: ER19-647-003.

Applicants: Wolf Run Energy LLC.

Description: Compliance filing: Compliance Filing of Revised Rate Schedule to be effective 3/1/2019.

Filed Date: 11/12/19.

Accession Number: 20191112-5131.

Comments Due: 5 p.m. ET 12/3/19.

Docket Numbers: ER19-2804-001.

Applicants: Tri-State Generation and Transmission As.

Description: Tariff Amendment: Amendment of Service Agreement No. 820 to be effective 12/31/9998.

Filed Date: 11/8/19.

Accession Number: 20191108-5158.

Comments Due: 5 p.m. ET 11/29/19.

Docket Numbers: ER20-122-001.

Applicants: Crowned Ridge Interconnection, LLC.

Description: Tariff Amendment: Crowned Ridge Interconnection, LLC Amendment to MBR Application to be effective 12/4/2019.

Filed Date: 11/8/19.

Accession Number: 20191108-5156.

Comments Due: 5 p.m. ET 11/29/19.

Docket Numbers: ER20-347-000.

Applicants: Pacific Gas and Electric Company.

Description: Tariff Cancellation: Notice of Termination of Gonzaga Ridge Wind Farm E&P Agreement to be effective 11/5/2019.

Filed Date: 11/8/19.

Accession Number: 20191108-5154.

Comments Due: 5 p.m. ET 11/29/19.

Docket Numbers: ER20-348-000.

Applicants: PJM Interconnection, L.L.C.

Description: Tariff Cancellation: Notice of Cancellation of WMPA/SA No. 4390; Queue No. AB1-071 to be effective 11/12/2019.

Filed Date: 11/8/19.

Accession Number: 20191108-5155.

Comments Due: 5 p.m. ET 11/29/19.

Docket Numbers: ER20-349-000.

Applicants: Public Service Company of Colorado.

Description: § 205(d) Rate Filing: PSC-NXER-E&P-Nepture-562-0.0.0 to be effective 11/12/2019.

Filed Date: 11/12/19.

Accession Number: 20191112-5012.

Comments Due: 5 p.m. ET 12/3/19.

Docket Numbers: ER20-350-000.

Applicants: Public Service Company of Colorado.

Description: § 205(d) Rate Filing: PSC-NXER-E&P-ThunderWolf-563-0.0.0 to be effective 11/12/2019.

Filed Date: 11/12/19.

Accession Number: 20191112-5013.

Comments Due: 5 p.m. ET 12/3/19.

Docket Numbers: ER20-351-000.

Applicants: AEP Texas Inc.

Description: § 205(d) Rate Filing: AEPTX-RE Bravepost GIA to be effective 10/30/2019.

Filed Date: 11/12/19.

Accession Number: 20191112-5014.

Comments Due: 5 p.m. ET 12/3/19.

Docket Numbers: ER20-352-000.

Applicants: PJM Interconnection, L.L.C.

Description: § 205(d) Rate Filing: Original ISA No. 5496; Queue No. AC1-075/AC1-080 to be effective 10/10/2019.

Filed Date: 11/12/19.

Accession Number: 20191112-5015.

Comments Due: 5 p.m. ET 12/3/19.

Docket Numbers: ER20-353-000.

Applicants: Midcontinent Independent System Operator, Inc., Ameren Illinois Company.

Description: § 205(d) Rate Filing: 2019-11-12_SA 3028 Ameren IL-Prairie Power Project #17 Ishi to be effective 11/13/2019.

Filed Date: 11/12/19.

Accession Number: 20191112-5037.

Comments Due: 5 p.m. ET 12/3/19.

Docket Numbers: ER20-354-000.

Applicants: Midcontinent Independent System Operator, Inc.

Description: § 205(d) Rate Filing: 2019-11-12_SA 3346 ATC-Wisconsin Electric Power GIA (G510 J831) to be effective 10/28/2019.

Filed Date: 11/12/19.

Accession Number: 20191112-5141.

Comments Due: 5 p.m. ET 12/3/19.

Docket Numbers: ER20-355-000.

Applicants: PJM Interconnection, L.L.C.

Description: § 205(d) Rate Filing: Amendment to ISA and ICSA, SA Nos. 5492 and 5310; Queue No. AB2-174 (amend) to be effective 1/29/2019.

Filed Date: 11/12/19.

Accession Number: 20191112-5145.

Comments Due: 5 p.m. ET 12/3/19.

Docket Numbers: ER20-356-000.

Applicants: Southern California Edison Company.

Description: § 205(d) Rate Filing: Amended GIA & DSA DifWind Farms Limited V WDT1130QFC SA No. 991-992 to be effective 11/13/2019.

Filed Date: 11/12/19.

Accession Number: 20191112-5148.

Comments Due: 5 p.m. ET 12/3/19.

Docket Numbers: ER20-357-000.

Applicants: PJM Interconnection, L.L.C.

Description: § 205(d) Rate Filing: Original ISA No. 5499; Queue No. AC1-105 to be effective 10/14/2019.

Filed Date: 11/12/19.

Accession Number: 20191112-5150.

Comments Due: 5 p.m. ET 12/3/19.

Docket Numbers: ER20-358-000.

Applicants: ISO New England Inc., Green Mountain Power Corporation.

Description: § 205(d) Rate Filing: Green Mountain Power Corporation; Revisions to Depreciation Rates to be effective 12/12/2019.

Filed Date: 11/12/19.

Accession Number: 20191112-5151.

Comments Due: 5 p.m. ET 12/3/19.

Docket Numbers: ER20-359-000.

Applicants: Midcontinent Independent System Operator, Inc.

Description: § 205(d) Rate Filing: 2019-11-12_Attachment X Pro Forma Facilities Services Agreement to be effective 1/12/2020.

Filed Date: 11/12/19.

Accession Number: 20191112-5210.

Comments Due: 5 p.m. ET 12/3/19.

Docket Numbers: ER20-360-000.

Applicants: PJM Interconnection, L.L.C.

Description: § 205(d) Rate Filing: Amendment to ISA No. 4792, AB2-038/AB2-041; ICSA No. 4793, U3-073/Z2-013/AB2-038 to be effective 9/13/2017.

Filed Date: 11/12/19.

Accession Number: 20191112-5216.

Comments Due: 5 p.m. ET 12/3/19.

Docket Numbers: ER20-361-000.

Applicants: Utility Expense Reduction, LLC.

Description: Notice of Cancellation of Market-Based Rate Tariff of Utility Expense Reduction, LLC.

Filed Date: 11/12/19.

Accession Number: 20191112-5225.

Comments Due: 5 p.m. ET 12/3/19.

Docket Numbers: ER20-362-000.

Applicants: PJM Interconnection, L.L.C.

Description: Tariff Cancellation: Notice of Cancellation of ICSA, SA No. 2963; Queue No. Q90 to be effective1/31/2016.

Filed Date: 11/12/19.

Accession Number: 20191112-5248.

Comments Due: 5 p.m. ET 12/3/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 12, 2019.
Nathaniel J. Davis, Sr.,
Deputy Secretary.

[FR Doc. 2019-25031 Filed 11-18-19; 8:45 am]

BILLING CODE 6717-01-P